DEPARTMENT OF TRANSPORTATION

National Highway Traffic Safety Administration

49 CFR Part 571

[Docket No. NHTSA-2007-29083; Docket No. NHTSA-2007-28707]

Federal Motor Vehicle Safety Standards: Tires; Correction, Occupant Crash Protection; Correction

AGENCY: National Highway Traffic Safety Administration (NHTSA), Department of Transportation.

ACTION: Final rule; correcting amendments.

SUMMARY: This document corrects Federal Motor Vehicle Safety Standard (FMVSS) No. 139, New pneumatic radial tires for light vehicles, which specifies tire dimensions, test requirements, and labeling requirements and which defines tire load ratings for certain types of light vehicle tires. The corrections relate to a definition for snow tires and tire marking requirements, which were inadvertently removed. This document also corrects FMVSS No. 208, Occupant Crash Protection, with respect to specifying a test tolerance for a procedure used to test air bag suppression systems and low risk deployment systems.

DATES: Effective December 29, 2008.

FOR FURTHER INFORMATION CONTACT: Ms. Rebecca Yoon, Office of the Chief Counsel, by telephone at (202) 366-2992, by fax at (202) 366-3820, or by mail at the following address: National Highway Traffic Safety Administration, U.S. Department of Transportation, 1200 New Jersey Avenue, SE., Washington, DC 20590.

SUPPLEMENTARY INFORMATION:

FMVSS No. 139

FMVSS No. 139 specifies tire dimensions, test requirements, and labeling requirements, and defines tire load ratings for new pneumatic radial tires for use on certain motor vehicles that have a gross vehicle weight rating (GVWR) of 10,000 pounds or less. The tire labeling requirements, S5.5(a) through (h) of the standard, were originally added to FMVSS No. 139 in November 2002 to maintain consistent labeling requirements for all tires for use on light vehicles.¹

¹ 67 FR 69600 (Nov. 18, 2002).

S5.5(i), concerning the “Alpine Symbol” for snow tires, was added to FMVSS No. 139 in January 2006 to allow manufacturers to certify snow tires to special requirements for snow tires, and to help consumers identify those tires.² However, the January 2006 amendments adding S5.5(i) inadvertently did not reference this subparagraph (i) in the introductory paragraph of S5.5. To correct that oversight, the agency issued an August 2007 final rule intending to amend only the introductory paragraph of S5.5 to specify that the subparagraphs included (a) through (i).³ However, the rule inadvertently removed the nine subparagraphs (a) through (i) of S5.5. This document corrects the CFR by adding the inadvertently removed paragraphs of FMVSS No. 139.

² 71 FR 877 (Jan. 6, 2006).

³ 72 FR 49207, 49209-10 (Aug. 28, 2007).

Additionally, in the August 2007 final rule, the agency added a definition for “light truck (LT) tires” but inadvertently removed the definition of “snow tire” from the list of definitions in S3. The “snow tire” definition is needed in the standard to make clearer how the standard applies to snow tires. This document corrects the CFR by adding the inadvertently removed snow tire definition.

We are also correcting FMVSS No. 139 to address another labeling requirement that had been inadvertently omitted from the standard when labeling requirements were moved from FMVSS No. 119 to FMVSS No. 139. This was the requirement that light truck tires load range C, D, and E be labeled with the tire load range designation on both sides of the tire. The agency did not intend to change (delete) the requirement then in FMVSS No. 119 that the tire load range designation be labeled on the tires.⁴ Today's document reinstates the labeling requirement.

⁴ Notice of proposed rulemaking (NPRM), 66 FR 65536, December 19, 2001. The only change to FMVSS No. 119 labeling requirements discussed in the preamble of the NPRM related to locating the type of ply, cord, and tube on one sidewall only, rather than both sides. 66 FR at 65564. Current tires are labeled with the C, D, and E tire load range designation on both sides of the tire.

FMVSS No. 208

FMVSS No. 208 requires passenger vehicles to be equipped with seat belts and frontal air bags for the protection of vehicle occupants in crashes. On July 24, 2007, NHTSA issued a final rule that established test procedures for installing child restraint systems (CRSs) to a child restraint anchorage system in a front passenger seating position in vehicles certified to meet advanced air bag requirements through the use of a suppression system or low risk deployment system.⁵

⁵ 72 FR 40252.

As part of the procedure for installing child restraints with a rigid ratchet mechanism built into the CRS, the agency stated in the preamble that a force of 475 ±25 Newtons (N) will be applied to the CRS (72 FR at 40256, columns 1 and 2). However, S20.2.1.6.2(g) and S22.2.1.6.2(h) of the regulatory text inadvertently did not specify the tolerance of ±25 N. The lack of a specified tolerance may prove to be misleading and needs to be clarified. This document corrects the CFR by adding the ±25 N tolerance to those sections of the standard.

List of Subjects in 49 CFR Part 571

Motor vehicles, Motor vehicle safety; Reporting and recordkeeping requirements; Tires.

Accordingly, 49 CFR part 571 is corrected by making the following correcting amendments:

PART 571—[CORRECTED]

1. The authority citation for part 571 continues to read as follows:

Authority: 49 U.S.C. 322, 30111, 30115, 30117, and 30166; delegation of authority at 49 CFR 1.50.

2. Section 571.139 is amended by adding to S3, in alphabetical order, a definition of “Snow tire,” and revising S5.5 to read as follows:

§ 571.139 Standard No. 139—New pneumatic radial tires for light vehicles.

* * * * *

S3. Definitions.

* * * * *

Snow tire means a tire that attains a traction index equal to or greater than 110, compared to the ASTM E-1136 Standard Reference Test Tire when using the snow traction test as described in ASTM F-1805-00, Standard Test Method for Single Wheel Driving Traction in a Straight Line on Snow- and Ice-Covered Surfaces, and which is marked with an Alpine Symbol specified in S5.5(i) on at least one sidewall.

* * * * *

S5.5 Tire markings. Except as specified in paragraphs (a) through (i) of S5.5, each tire must be marked on each sidewall with the information specified in S5.5(a) through (d) and on one sidewall with the information specified in S5.5(e) through (i) according to the phase-in schedule specified in S7 of this standard. The markings must be placed between the maximum section width and the bead on at least one sidewall, unless the maximum section width of the tire is located in an area that is not more than one-fourth of the distance from the bead to the shoulder of the tire. If the maximum section width falls within that area, those markings must appear between the bead and a point one-half the distance from the bead to the shoulder of the tire, on at least one sidewall. The markings must be in letters and numerals not less than 0.078 inches high and raised above or sunk below the tire surface not less than 0.015 inches.

(a) The symbol DOT, which constitutes a certification that the tire conforms to applicable Federal motor vehicle safety standards;

(b) The tire size designation as listed in the documents and publications specified in S4.1.1 of this standard;

(c) The maximum permissible inflation pressure, subject to the limitations of S5.5.4 through S5.5.6 of this standard;

(d) The maximum load rating and for LT tires, the letter designating the tire load range;

(e) The generic name of each cord material used in the plies (both sidewall and tread area) of the tire;

(f) The actual number of plies in the sidewall, and the actual number of plies in the tread area, if different;

(g) The term “tubeless” or “tube type,” as applicable;

(h) The word “radial,” if the tire is a radial ply tire; and

(i) Alpine Symbol. A tire meeting the definition of a snow tire as defined in paragraph S3 may, at the option of the manufacturer, show the pictograph of a mountain with a snowflake as shown below. If the manufacturer chooses to mark the snow tire with the alpine symbol, the mountain profile must have a minimum base of 15 mm and a minimum height of 15 mm, and must contain three peaks with the middle peak being the tallest. Inside the mountain, there must be a six-sided snowflake having a minimum height of one-half the tallest peak.

* * * * *

3. Section 571.208 is amended by revising S20.2.1.6.2(g) and S22.2.1.6.2(h), to read as follows:

§ 571.208 Standard No. 208; Occupant crash protection.

* * * * *

S20.2.1.6.2 * * *

* * * * *

(g) If the child restraint uses a linear sliding or ratcheting mechanism that requires the application of force to securely install the child restraint, within 25±5 seconds, apply a 475±25N force, that has no lateral component, aligned angularly ±10 degrees with a parallel plane located within ±100 mm of the plane formed by the linear mechanism. Release the force.

* * * * *

S22.2.1.6.2 * * *

* * * * *

(h) If the child restraint uses a linear sliding or ratcheting mechanism that requires the application of force to securely install the child restraint, within 25±5 seconds, apply a 475±25N force, that has no lateral component, aligned angularly ±10 degrees with a parallel plane located within ±100 mm of the plane formed by the linear mechanism. Release the force.

* * * * *

Issued: November 21, 2008.
Stephen R. Kratzke,
Associate Administrator for Rulemaking.

[FR Doc. E8-28096 Filed 11-26-08; 8:45 am]

BILLING CODE 4910-59-P